DEPARTMENT OF JUSTICE

Notice of Lodging Proposed Consent Decree

In accordance with Departmental Policy, 28 CFR 50.7, notice is hereby given that a proposed Consent Decree in United States v. Oakwood Homes LLC and Niebur Golf, Inc., was lodged with the United States District Court for the District of Colorado on September 17, 2004.

This proposed Consent Decree concerns a complaint filed by the United States against Oakwood Homes LLC and Niebur Golf, Inc., pursuant to 33 U.S.C. 1311(a), 1319(b) and (d), and 33 U.S.C. 1344(s)(3), to obtain injunctive relief from and impose civil penalties against the Defendants for violating the Clean Water Act by discharging pollutants without a permit into waters of the United States. The proposed Consent Decree resolves these allegations by requiring the Defendants to restore the impacted areas, to perform mitigation, and to pay a civil penalty.

The Department of Justice will accept written comments relating to this proposed Consent Decree for thirty (30) days from the date of publication of this Notice. Please address comments to Stephen D. Taylor, Assistant United States Attorney, 1225 17th Street, Suite 700, Denver, Colorado 80202 and refer to United States v. Oakwood Homes, et al., Civil Action No. 04-D-1918 (MJW).

The proposed Consent Decree may be examined at the Clerk's Office, United States District Court for the District of Colorado, Alfred A. Arrraj United States Courthouse, 901 19th Street, Room A 105, Denver, Colorado 80294. In addition, the proposed Consent Decree may be viewed at http://www.usdoj.gov/enrd/open.html.

John W. Suthers,

United States Attorney.

Stephen D. Taylor,
Assistant U.S. Attorney.

[FR Doc. 04-21871 Filed 9-29-04; 8:45 am]

BILLING CODE 4410-15-M